DEPARTMENT OF TRANSPORTATION

Federal Aviation Administration

14 CFR Part 71

[Docket No. FAA-2012-1174; Airspace Docket No. 12-AAL-12]

Modification of Class D and E Airspace; Kenai, AK

AGENCY: Federal Aviation Administration (FAA), DOT.

ACTION: Final rule.

SUMMARY: This action modifies Class D and E airspace at Kenai Municipal Airport, Kenai, AK. Controlled airspace is necessary to accommodate aircraft using the new Area Navigation (RNAV) Global Positioning System (GPS) standard instrument approach procedures at the airport. A minor adjustment is made to the geographic coordinates of the airport. Additionally, language establishing dates and times of use of the procedures was inadvertently omitted from the description for the Class E airspace designated as an extension, and is included in this rule. This action, initiated by the biennial review of the Kenai airspace area, enhances the safety and management of aircraft operations at the airport.

DATES: Effective date, 0901 UTC, February 6, 2014. The Director of the Federal Register approves this incorporation by reference action under 1 CFR Part 51, subject to the annual revision of FAA Order 7400.9 and publication of conforming amendments.

FOR FURTHER INFORMATION CONTACT: Richard Roberts, Federal Aviation Administration, Operations Support Group, Western Service Center, 1601 Lind Avenue SW., Renton, WA 98057; telephone (425) 203-4517.

SUPPLEMENTARY INFORMATION:

History

On June 10, 2013, the FAA published in the Federal Register a notice of proposed rulemaking (NPRM) to modify controlled airspace at Kenai Municipal Airport, Kenai, AK (78 FR 34609). Interested parties were invited to participate in this rulemaking effort by submitting written comments on the proposal to the FAA. No comments were received. Subsequent to publication, the FAA found that the text regarding operating hours established by NOTAM was omitted from Class E airspace designated as an extension to a Class D surface area. This action includes the NOTAM information.

Class D and Class E airspace designations are published in paragraph 5000, 6002 and 6004, respectively, of FAA Order 7400.9X dated August 7, 2013, and effective September 15, 2013, which is incorporated by reference in 14 CFR 71.1. The Class D and Class E airspace designations listed in this document will be published subsequently in this Order.

The Rule

This action amends Title 14 Code of Federal Regulations (14 CFR) Part 71 by modifying Class D airspace, Class E surface airspace and Class E airspace designated as an extension to Class D surface area, at Kenai Municipal Airport, Kenai, AK. Also, the geographic coordinates of the airport are updated to coincide with the FAA's aeronautical database. The FAAs biennial review found modification of the airspace necessary for the safety and management of aircraft departing and arriving under IFR operations at the airport. The Class D airspace and Class E surface area airspace excluded below 1100 feet MSL beyond 4 miles from the airport is decreased, and the segment of the Class E airspace designated as an extension extending to 10.2 miles northeast of the airport is adjusted to coincide with the dimensions of the cutout. Also, this action adds the text specifying the operating hours established in advance by NOTAM in the airspace description for Class E airspace designated as an extension to Class D or E surface area.

The FAA has determined this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified this rule, when promulgated, does not have a significant economic impact on a substantial number of small entities under the criteria of the Regulatory Flexibility Act. The FAA's authority to issue rules regarding aviation safety is found in Title 49 of the U.S. Code. Subtitle 1, Section 106 discusses the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends controlled airspace at the Kenai Municipal Airport, Kenai, AK.

Environmental Review

The FAA has determined that this action qualifies for categorical exclusion under the National Environmental Policy Act in accordance with FAA Order 1050.1E, “Environmental Impacts: Policies and Procedures,” paragraph 311a. This airspace action is not expected to cause any potentially significant environmental impacts, and no extraordinary circumstances exist that warrant preparation of an environmental assessment.

List of Subjects in 14 CFR Part 71

Airspace, Incorporation by reference, Navigation (air)

Adoption of the Amendment

In consideration of the foregoing, the Federal Aviation Administration amends 14 CFR Part 71 as follows:

PART 71—DESIGNATION OF CLASS A, B, C, D AND E AIRSPACE AREAS; AIR TRAFFIC SERVICE ROUTES; AND REPORTING POINTS

1. The authority citation for 14 CFR Part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9X, Airspace Designations and Reporting Points, dated August 7, 2013, and effective September 15, 2013 is amended as follows:

Paragraph 5000 Class D Airspace

* * * * *

AAL AK D Kenai, AK [Amended]

Kenai Municipal Airport, AK

(Lat. 60°34′24″ N., long. 151°14′41″ W.)

That airspace extending upward from the surface to and including 2,600 feet MSL within a 5.2-mile radius of Kenai Municipal Airport, excluding the airspace below 1,100 feet MSL beyond 4 miles from the airport extending from the 310° bearing clockwise to the 346° bearing of the airport. This Class D airspace area is effective during the specific dates and times established in advance by a Notice to Airmen. The effective date and time will thereafter be continuously published in the Airport/Facility Directory.

Paragraph 6002 Class E airspace designated as surface areas.

* * * * *

AAL AK E2 Kenai, AK [Amended]

Kenai Municipal Airport, AK

(Lat. 60°34′24″ N., long. 151°14′41″ W.)

That airspace extending upward from the surface to and including 2600 feet MSL within a 5.2-mile radius of Kenai Municipal Airport, excluding the airspace below 1,100 feet MSL beyond 4 miles from the airport extending from the 310° bearing clockwise to the 346° bearing of the airport; and that airspace extending upward from the surface beginning at lat. 60°39′25″ N., long. 151°17′17″ W.; to lat. 60°45′01″ N., long. 151°10′27″ W.; to lat. 60°41′12″ N., long. 150°57′33″ W.; to lat. 60°35′34″ N., long. 151° 04′25″ W., thence counterclockwise along the 5.2-mile radius of the airport to the point of beginning. This Class E airspace area is effective during the specific dates and times established in advance by a Notice to Airmen. The effective date and time will thereafter be continuously published in the Airport/Facility Directory.

Paragraph 6004 Class E airspace areas designated as an extension to Class D or Class E surface area.

* * * * *

AAL AK E4 Kenai, AK [Amended]

Kenai Municipal Airport, AK

(Lat. 60°34′24″ N., long. 151°14′41″ W.)

That airspace extending upward from the surface beginning at lat. 60°39′25″ N., long. 151°17′17″ W.; to lat. 60°45′01″ N., long. 151°10′27″ W.; to lat. 60°41′12″ N., long. 150°57′33″ W.; to lat. 60°35′34″ N., long. 151° 04′25″ W., thence counterclockwise along the 5.2-mile radius of the airport to the point of beginning. This Class E airspace area is effective during the specific dates and times established in advance by a Notice to Airmen. The effective date and time will thereafter be continuously published in the Airport/Facility Directory.

Issued in Seattle, Washington, on October 23, 2013.
Clark Desing,
Manager, Operations Support Group, Western Service Center.

[FR Doc. 2013-25853 Filed 10-30-13; 8:45 am]

BILLING CODE 4910-13-P